DEPARTMENT OF LABOR

Employment and Training Administration

Agency Information Collection Activities; Comment Request

ACTION: Notice.

SUMMARY: The Department of Labor's (DOL's) Employment and Training Administration (ETA) is soliciting comments concerning a proposed revision to the authority to conduct an information collection request (ICR) titled, “ETA Financial Report Form ETA-9130.” This comment request is part of DOL's continuing efforts to reduce respondent burden in accord with the Paperwork Reduction Act of 1995 (PRA).

DATES: Consideration will be given to all written comments received by June 27, 2022.

ADDRESSES: A copy of this ICR with applicable supporting documentation, including a description of the likely respondents, proposed frequency of response, and estimated total burden, may be obtained free of charge by contacting Latonya Torrence via telephone at 202-693-3708 (this is not a toll-free number), TTY 1-877-889-5627 (this is not a toll-free number), or by email at Torrence.Latonya@dol.gov.

Submit written comments about, or requests for a copy of, this ICR by mail or courier to the U.S. Department of Labor, Employment and Training Administration, Office of Grants Management, N-4716, 200 Constitution Ave. NW, Washington, DC 20210; by email: Torrence.Latonya@dol.gov; or by fax 202-693-2705.

FOR FURTHER INFORMATION CONTACT: Latonya Torrence by telephone at 202-693-3708 (this is not a toll-free number) or by email at Torrence.Latonya@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA utilizes the data collection format to assess the effectiveness of ETA programs and to monitor and analyze the financial activity of its grantees, while complying with OMB efforts to streamline federal financial reporting. Grantees are provided with software that reflects the requirements of ETA Form 9130 so that the required data is reported electronically, permitting ease of ETA evaluation.

ETA wants to provide clarification to the instructions regarding the Training Expenditures reporting line item on ETA-9130 forms for the Workforce Innovation and Opportunity Act (WIOA) Adult, Youth, and Dislocated Worker programs; the Trade Adjustment Assistance program; and the Indian and Native American programs. The funds reported in this line item represent the cumulative amount for training services provided to program participants.

Financial reporting requirements for federal programs are prescribed by OMB under the Uniform Administrative Requirements, Cost Principles, and Audit Requirements for Federal Awards (2 CFR 200 et seq.), otherwise known as the Uniform Guidance. Additionally, with the passage of WIOA, there are numerous new statutory requirements that affect financial reporting, including new and/or revised limitations and baselines that require the addition or modification of existing ETA-9130 reporting line items.

This information collection is subject to the PRA. A federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0461.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and/or

• Minimize the burden of the collection of information on those who are to respond, including through the use of appropriate automated, electronic, mechanical, or other technological collection techniques or other forms of information technology (e.g., permitting electronic submission of responses).

Agency: DOL-ETA.

Type of Review: Revision.

Title of Collection: ETA Financial Report Form ETA-9130.

Forms: Form ETA-9130-Basic, ETA-9130-A, ETA 9130-B, ETA-9130-C, ETA-9130-D, ETA-9130-E, ETA-9130-F, ETA-9130-G, ETA-9130H, ETA-9130-I, ETA-9130-J, ETA-9130-K, ETA-9130-L, ETA-9130-M.

OMB Control Number: 1205-0461.

Affected Public: State workforce agencies, local governments, non-profit organizations, educational institutions, consortia of any and/or all of the above.

Estimated Number of Respondents: 20,000.

Frequency: Quarterly.

Total Estimated Annual Responses: 20,000.

Estimated Average Time per Response: .75 hour.

Estimated Total Annual Burden Hours: 15,000 hours.

Total Estimated Annual Other Cost Burden: $0.

Angela Hanks,
Acting Assistant Secretary for Employment and Training, Labor.

[FR Doc. 2022-09024 Filed 4-27-22; 8:45 am]

BILLING CODE 4510-FT-P